DEPARTMENT OF THE INTERIOR

Fish and Wildlife Service

[FWS-R7-FHC-2010-N067; 71490-1351-0000-L5-FY10]

Marine Mammals; Incidental Take During Specified Activities

AGENCY: Fish and Wildlife Service, Interior.

ACTION: Notice of receipt of application and proposed incidental harassment authorization; request for comments.

SUMMARY: We, the Fish and Wildlife Service (Service), have received an application from the Alaska Department of Transportation and Public Facilities and the Aleutians East Borough for authorization to take small numbers of marine mammals by harassment incidental to the Akutan Airport's Airport Construction and Hovercraft Operation in Akutan and Unalaska, Alaska. In accordance with provisions of the Marine Mammal Protection Act of 1972 (MMPA), as amended, we request comments on our proposed authorization for the applicant to incidentally take, by harassment, small numbers of northern sea otters for a period of 1 year, beginning May 1, 2010. We anticipate no take by injury or death and include none in this proposed authorization, which would be for take by harassment only.

DATES: Comments and information must be received by July 8, 2010.

ADDRESSES: You may submit comments by any of the following methods:

1. By mail to: Douglas Burn, Office of Marine Mammals Management, U.S. Fish and Wildlife Service, 1011 East Tudor Road, Anchorage, AK 99503.

2. By fax to: 907-786-3816.

3. By electronic mail (e-mail) to: R7_MMM_Comment@FWS.gov. Please include your name and return address in your message. If you do not receive a confirmation from the system that we have received your message, contact us directly at the telephone numbers above.

4. By hand-delivery to the above address.

FOR FURTHER INFORMATION CONTACT: To request copies of the application, the list of references used in this notice, and other supporting materials, contact Douglas Burn at the address or telephone numbers in ADDRESSES, or by e-mail at Douglas_Burn@fws.gov.

SUPPLEMENTARY INFORMATION:

Background

Sections 101(a)(5)(A) and (D) of the MMPA, as amended (16 U.S.C. 1371 (a)(5)(A) and (D)), authorize the Secretary of the Interior to allow, upon request, the incidental, but not intentional, taking of small numbers of marine mammals by U.S. citizens who engage in a specified activity (other than commercial fishing) within a specified geographical region, provided that we make certain findings and either issue regulations or, if the taking is limited to harassment, provide a notice of a proposed authorization to the public for review and comment.

We may grant authorization to incidentally take marine mammals if we find that the taking will have a negligible impact on the species or stock(s), and will not have an unmitigable adverse impact on the availability of the species or stock(s) for subsistence uses. As part of the authorization process, we prescribe permissible methods of taking and other means of affecting the least practicable impact on the species or stock and its habitat, and requirements pertaining to the monitoring and reporting of such takings.

The term “take,” as defined by the MMPA, means to harass, hunt, capture, or kill, or to attempt to harass, hunt, capture, or kill any marine mammal. Harassment, as defined by the MMPA, means “any act of pursuit, torment, or annoyance which (i) has the potential to injure a marine mammal or marine mammal stock in the wild [the MMPA calls this Level A harassment], or (ii) has the potential to disturb a marine mammal or marine mammal stock in the wild by causing disruption of behavioral patterns, including, but not limited to, migration, breathing, nursing, breeding, feeding, or sheltering [the MMPA calls this Level B harassment].”

The terms “small numbers,” “negligible impact,” and “unmitigable adverse impact” are defined in 50 CFR 18.27, the Service's regulations governing take of small numbers of marine mammals incidental to specified activities. “Small numbers” is defined as “a portion of a marine mammal species or stock whose taking would have a negligible impact on that species or stock.” “Negligible impact” is defined as “an impact resulting from the specified activity that cannot be reasonably expected to, and is not reasonably likely to, adversely affect the species or stock through effects on annual rates of recruitment or survival.” “Unmitigable adverse impact” is defined as “an impact resulting from the specified activity (1) that is likely to reduce the availability of the species to a level insufficient for a harvest to meet subsistence needs by (i) Causing the marine mammals to abandon or avoid hunting areas, (ii) directly displacing subsistence users, or (iii) placing physical barriers between the marine mammals and the subsistence hunters; and (2) that cannot be sufficiently mitigated by other measures to increase the availability of marine mammals to allow subsistence needs to be met.”

Section 101(a)(5)(D) of the MMPA established an expedited process by which citizens of the United States can apply for an authorization to incidentally take small numbers of marine mammals where the take will be limited to harassment. Section 101(a)(5)(D)(iii) establishes a 45-day time limit for Service review of an application, followed by a 30-day public notice and comment period on any proposed authorizations for the incidental harassment of marine mammals. Within 45 days of the close of the comment period, we must either issue or deny issuance of the authorization. We refer to these authorizations as Incidental Harassment Authorizations (IHAs).

Previous Federal Action

On July 9, 2008, we received a joint application from the Alaska Department of Transportation and Public Facilities and the Aleutians East Borough (Applicants) for the taking by harassment of northern sea otters (Enhydra lutris kenyoni) incidental to the Akutan Airport, Alaska Airport Construction and Hovercraft Operation (Project). The request was published in the Federal Register on August 27, 2008 (73 FR 50634). On November 10, 2008, the Service issued IHAs to the Applicants authorizing Level B harassment of northern sea otters for a period of 1 year, the last date of which is April 30, 2010. Due to funding constraints, no construction activities or hovercraft operations have been conducted to date or will be conducted during the remainder of this period. Therefore no incidental take of sea otters occurred under the existing IHAs.

Summary of Request

On January 25, 2010, we received a joint application from the Alaska Department of Transportation and Public Facilities and the Aleutians East Borough (Applicants) to reissue the existing authorization for an additional 1-year period for the taking by harassment of northern sea otters incidental to the Project. The activities described in this joint application request are the same as those proposed in 2008. Therefore, if issued, the IHA will be basically the same.

Under the proposed action, the Applicants would construct a new airport on the southwestern portion of Akun Island, which would serve the community of Akutan, approximately 7 miles to the west. Access to the Akun airport location would be provided by hovercraft from the community of Akutan to Surf Beach, which offers a protected landing area. Marine service by hovercraft between the community of Akutan and Surf Bay on Akun Island would satisfy passenger comfort and weather operability goals. When not in use, the hovercraft would be stored in a building at the head of Akutan Harbor. Staff would access the hovercraft storage area at the head of the harbor by traveling in a skiff. A 3,000-foot-long road would connect the hovercraft landing pad on Surf Beach to the runway located on the bench above the beach. A diesel bus would be used to transport passengers between the hovercraft and aircraft. The bus would be fueled on site and stored at the airport when not in use.

A detailed description of the proposed action is contained in a Final Environmental Assessment (FEA) and Finding of No Significant Impact/Record of Decision (FONSI/ROD) prepared by the Applicants for the Federal Aviation Administration (FAA) and issued in December 2007 (73 FR 4040; January 23, 2008). A Biological Opinion for the proposed Akutan Airport Project was issued by the Service in May 2007.

Description of the Activity

Akutan Airport, Alaska—Airport Construction and Hovercraft Operation

a. Timing of Construction and Hovercraft Operation

Construction of the airport and related transportation of construction materials would commence in May 2010 and continue through the third quarter (between October and December) of 2012. Hovercraft testing could commence as early as the first quarter (between January and March) of 2010, with sustained operations commencing in the fourth quarter of 2012, after completion of construction.

b. Geographic Location of Action

The community of Akutan is located on a small bay on Akutan Island in the eastern region of the Aleutian Islands (73 FR 50636). The city of Akutan has a population of about 741. The community is located 35 miles east of Unalaska and 766 miles southwest of Anchorage. The proposed location for the new airport to serve the community of Akutan is on the southwestern portion of Akun Island, approximately 7 miles east of the community. The hovercraft route would run between the community of Akutan, across Akun Strait, to a landing site on the shore of Surf Bay on Akun Island.

Description of Habitat and Marine Mammals Affected by the Activity

Three monthly surveys for sea otters were conducted in winter (January-March) 2006 as part of the field investigations for the Akun Alternative by HDR Alaska, Inc. in Akutan Harbor, Akun Strait, and Surf Bay along the proposed Akun airport hovercraft route. Sea otter numbers were highest in January (22), with declines in February (17), and by March, only 7 otters were observed. Preferred habitat appeared to include protected areas in Akutan Harbor near the community of Akutan and along nearshore habitats at Akun and Green Island. Most of the otters sighted were individuals, and only one female with a pup was observed during the winter surveys. A detailed description of the habitat, status, distribution, and seasonal distribution of northern sea otters is contained in the FEA, the Biological Assessment for the proposed IHA, and the Biological Opinion (FWS 2007) for the proposed Akutan Airport Project.

Since issuance of the IHAs in November 2008, additional sea otter distribution information has become available (USGS 2008). Sea otter distribution remained consistent over the period of review, the years 2004, 2006, and 2008. Areas around Green Island appear to support relatively large numbers of sea otters, suggesting that disturbances in this area should be minimized during construction and hovercraft operations.

Status and Distribution of Affected Species

In North America, the northern sea otter is found along the coasts of Washington, British Columbia, and Alaska. Present distribution extends from the north coast of Washington State into the north Vancouver Island area of British Colombia. In Alaska, northern sea otters occur in the coastal waters from southeast Alaska to the Aleutian Island chain (Riedman and Estes 1990). Currently there are three population stocks of northern sea otters in Alaska. Since the mid-1980s, the southwest population stock has undergone an overall 55-67 percent decline (Doroff et al. 2003; Burn et al. 2003; Burn and Doroff 2005; Estes et al. 2005; USFWS 2005). The animals found in the Aleutian Islands have experienced the greatest declines. More specifically, the population in the Rat Island group, located in the central Aleutian Island chain, declined by about 94 percent; aerial survey counts of the Rat Island group decreased from 270 in 1959 to 11 in 2000 (Kenyon 1969; Doroff et al. 2003). The reasons for this decline are not well understood and are under investigation. Consequently, on August 9, 2005, the southwestern Alaska distinct population segment (DPS) of northern sea otters was listed as threatened under the Endangered Species Act of 1973 (ESA), as amended (16 U.S.C. 1531 et seq.; 70 FR 46366). Critical habitat for this species was designated on October 8, 2009 and became effective on November 9, 2009 (74 FR 51988).

Potential Impacts of the Airport Construction and Hovercraft Operation on Sea Otters

The proposed activities have the potential to disturb resting and foraging activities of sea otters, particularly in waters that are protected in the near shore habitat, which is used for resting, pup rearing, and foraging. The incremental effects of the hovercraft operation will be minimal in Akutan Harbor, which presently has considerable amounts of vessel traffic. In contrast, Surf Bay has relatively little vessel traffic. This fact may explain why surveys indicate that the majority of sea otters observed along the hovercraft route were in the proximity of Surf Bay. As a result, we expect most of the impacts from incidental harassment to occur in the Surf Bay area.

The responses of marine mammals to airport construction and hovercraft operations vary among species. Sea otters have not been reported as particularly sensitive to sound and/or movement disturbance, especially in comparison to other marine mammals such as pinnipeds (U.S. Air Force and USFWS 1988; Efroymson and Suter 2001). However, observations of sea otters indicate their responses to disturbance are highly variable (A. Doroff, USFWS, pers. comm.). If any sea otters are present during project operations, some of them may be temporarily disturbed by noise or hovercraft operating in the area. This could result in an otter entering the water from land and/or diving, which they do as part of their normal behavior pattern. The short-term displacement of any hauled-out animals that is likely to occur as a result of project noise and personnel is not anticipated to affect the overall fitness of any individual animal.

Potential Effects on Habitat

Hovercraft landings would be constructed primarily in areas above the mean high tide line to minimize adverse effects on northern sea otters and their habitat. Surf Beach landing site construction will impact about 0.4 intertidal acres and about 0.01 subtidal acres. Construction at the head of Akutan Harbor will impact about 0.1 intertidal acres and about 0.6 subtidal acres.

Potential Impacts on Subsistence Needs

In the Aleutian Islands, rural residents use a variety of plant and animals resources for subsistence purposes. The MMPA provides for a subsistence take of marine mammals by Alaska Natives. Although northern sea otters are harvested for subsistence purposes in the Aleutians, information from the Service's marine mammal Marking, Tagging, and Reporting Program (MTRP) indicates that on average, less than one sea otter per year is harvested from Akutan. We do not anticipate that the project described in this application would have any adverse effect on subsistence uses or needs.

Mitigation Measures

As described in correspondence between FAA and the Service (FAA 2007; FWS 2007), the Applicants would be required to implement the following measures to avoid, minimize, and mitigate the effects of the proposed action on northern sea otters:

a. A Hovercraft Shall Be Used To Transport Passengers to and From the Airport

As described in the Biological Assessment, hovercrafts produce less wake and less underwater noise than other marine vessels. Peer-reviewed scientific literature concludes that a hovercraft is considerably quieter underwater than a similar-sized conventional vessel, and that hovercraft may be an attractive alternative to conventional vessels if underwater sounds cause concerns. In-air sound may constitute a source of disturbance for listed sea otters.

b. The Hovercraft Landings Shall Be Located To Minimize Impacts to Intertidal and Subtidal Areas

Construction of hovercraft landings shall occur primarily in areas away from intertidal and subtidal areas to avoid adverse effects on northern sea otters and their habitat. Construction of the Surf Beach landing site would impact about 0.4 intertidal acres and about 0.01 subtidal acres. Construction at the head of Akutan Harbor would impact about 0.1 intertidal acres and about 0.6 subtidal acres. Such construction is likely to be more environmentally sensitive than construction of fixed, in-water docks or other related facilities.

c. No Dredging or Pile Driving Is Anticipated During the Construction of the Hovercraft Landings

Both dredging and pile driving have the potential to harass northern sea otters due to habitat or noise disturbance. We anticipate that the use of a hovercraft would avoid the need to construct in-water facilities such as moorings, piers, or docks that could require dredging or pile driving.

d. The Hovercraft Shall Be Operated According to a Route Operational Manual, Which Shall Require Avoidance of Sensitive Areas and Species

The Applicants will be required to develop a Route Operational Manual in consultation with the Service. The purpose of the Route Operational Manual is to develop hovercraft routes and operational procedures that avoid and minimize the likelihood of northern sea otter disturbance. As described below, the Applicants propose to develop an initial Route Operational Manual to ensure initial hovercraft operations avoid adverse effects to listed northern sea otters and other protected marine mammals. The Route Operational Manual would require Service approval prior to initiation of hovercraft operation, and operator compliance with the Route Operational Manual will be required as a condition of airport design approval and Clean Water Act 404 permit issuance.

e. All Fueling and Hovercraft Maintenance Activities Shall Be Conducted to the Maximum Extent Feasible at Least 100 Feet Away From Akutan Harbor and Surf Bay, and Fuel Storage Shall Be at Least 100 Feet Away From Akutan Harbor and Surf Bay

Northern sea otters are susceptible to the adverse effects of oiling due to fuel spills because otters depend on their insulation of dense fur to keep warm. Otters likewise may ingest oil during grooming and feeding. To address this issue, the Applicants shall conduct all fueling activities at the maximum distance feasible (i.e., at least 100 feet away from Akutan Harbor and Surf Bay). Fuel storage shall also occur at least 100 feet away from these locations. The Applicants shall comply with all applicable Federal and State fuel handling and storage requirements, further reducing the risk that any spill reaches sensitive northern sea otter habitat.

f. To Prevent Contamination, Hovercraft Maintenance Activities Shall Occur in the Hovercraft Storage Building or on the Hovercraft Landing

As discussed above, sea otters are susceptible to the adverse effects of oiling due to fuel spills because otters depend on their insulation of dense fur to keep warm. Otters likewise may ingest oil or other compounds during grooming or feeding. To address the risk of spills or contamination associated with hovercraft maintenance, the Applicants shall conduct all maintenance activities either on hovercraft landing areas, above intertidal or subtidal areas or in the hovercraft storage building. The Applicants shall comply with all applicable Federal and State hazardous materials handling and storage requirements, further reducing the risk that any contamination reaches sensitive northern sea otter habitat.

g. Completion of an Initial Route Operational Manual Shall Be Expedited

The Applicants shall expedite completion of an initial Route Operational Manual, which shall be developed in consultation with the Service prior to initial operation of the hovercraft. The Route Operational Manual will outline specific, detailed procedures to avoid and minimize impacts to sea otters. The Route Operational Manual shall identify hovercraft routes and provide a clearly written protocol that all hovercraft operators will be required to follow during initial hovercraft operations. The Applicants shall submit a draft initial Route Operation Manual to the Service for review and approval at least 30 days prior to commencing hovercraft trials during the spring of 2010.

During Route Operational Manual development, the Applicants will consult with the hovercraft manufacturer to ensure that hovercraft operations occur in the most environmentally sensitive manner possible. Through these discussions, the parties and the manufacturer may identify additional, cost-effective measures to further reduce vessel noise.

h. Northern Sea Otter Avoidance Areas Shall Be Established

The Applicants shall identify northern sea otter avoidance areas in consultation with the Service. These avoidance areas will serve to help delineate areas of likely northern sea otter occurrence to allow for their avoidance. Avoidance areas will be established through the use of preconstruction survey data collected by the Applicants in 2006.

i. Hovercraft Speed and Course Shall Be Altered

If a northern sea otter is observed within a set distance (e.g., a minimum of 1,200 feet) of the hovercraft (distances to be determined based on consultation with the Service) and based on the otter's position and the otter's relative course of travel the otter is likely to approach the hovercraft, the hovercraft's speed or course shall, when practicable and safe, be changed to avoid impacts to the species. Northern sea otter activities and movements relative to the hovercraft will be closely monitored to ensure that an animal does not (1) travel within a set distance (e.g., a minimum of 600 feet) of a departing hovercraft or (2) travel within a set distance (e.g., a minimum of 300 feet) of an approaching hovercraft (the “potential disturbance area” or “PDA”). If either of these events occurs, further mitigation measures must be taken (e.g., further course alterations or power down).

j. Power-Down Procedures Shall Be Used

A power down involves decreasing the speed of the hovercraft to avoid interactions with, and potential disturbance of, northern sea otters. If a northern sea otter is detected (1) within a set distance (e.g., a minimum of 600 feet) of a departing hovercraft or (2) within a set distance (e.g., a minimum of 300 feet) of an approaching hovercraft, and the vessel's course or speed shall, consistent with applicable design and operational requirements, decrease its speed to the slowest practicable speed before the animal enters the PDA. Power-down procedures shall be developed in consultation with the hovercraft manufacturer and the Service to ensure procedures are safe and within the operating parameters of the hovercraft.

k. Ramp-Up Procedures Shall Be Used

“Ramp-up” procedures shall be implemented when starting up the hovercraft, to provide additional protection to northern sea otters located near hovercraft landing areas. These procedures will allow individual animals to vacate the area to reduce the risk of injury, and to further reduce the risk of potentially startling sea otters with a sudden intensive sound. Ramp-up shall occur such that the sound associated with hovercraft operations will increase at a rate of about 6 dB per 5 minutes. The Applicants shall confer with the hovercraft manufacturer to develop ramp-up procedures consistent with this guideline.

l. Low-Light Operations Shall Be Utilized

The Applicants shall work with the Service to develop night-time or low-light operating procedures to avoid and minimize impacts to northern sea otters and other species.

Findings

We propose the following findings regarding this action:

Small Numbers Determination and Estimated Take by Incidental Harassment

For small take analysis, the statute and legislative history do not expressly require a specific type of numbers analysis, leaving the determination of “small” to the agency's discretion. Factors considered in our small numbers determination include:

(1) The number of northern sea otters inhabiting the waters in the impact area is expected to be small relative to the size of the southwest Alaska population stock. Skiff-based surveys conducted in 2006 recorded up to 22 otters in proximity to the proposed hovercraft route. The current estimate for the size of the southwest Alaska population stock is approximately 48,000 individuals (USFWS 2008). The number of northern sea otters that could potentially be taken by harassment in association with the proposed activity is less than 0.05 percent of the estimated population size.

(2) The area where the activity would occur is small relative to the range of the southwest Alaska population stock of sea otters. Surf Bay on Akun Island is approximately 7 km in length. The southwest Alaska population stock ranges from Attu Island in the west to lower Cook Inlet in the east, a distance of more than 2,700 km. Therefore, Surf Bay comprises less than 0.3 percent of the total range in linear km of the southwest Alaska population stock of the northern sea otter.

(3) The area where the activity would occur will impact a relatively small fraction of the habitat of the southwest Alaska population stock of sea otters. As sea otters typically inhabit nearshore marine areas, shoreline length is a readily available metric that can be used to quantify sea otter habitat. The total length of shoreline within the range of the southwest Alaska stock of northern sea otters is approximately 19,531 km. By comparison, the shoreline of Surf Bay is approximately 7 km in length, which is less than 0.04 percent of the total available habitat.

(4) Monitoring requirements and mitigation measures are expected to significantly limit the number of incidental takes. Monitoring information collected during initial hovercraft operations will provide the Service and the Applicants with more current information about sea otter distribution and abundance at Surf Bay on Akun Island. In the event that larger numbers of sea otters than have previously been observed are encountered at consistent locations, the Route Operational Manual will be required to be revised to minimize incidents of harassment.

Negligible Impact

The Service finds that any incidental take by harassment that is reasonably likely to result from the proposed project would not adversely affect the southwest Alaska stock of northern sea otters through effects on rates of recruitment or survival, and would, therefore, have no more than a negligible impact on the stock. In making this finding, we considered the best available scientific information, including: (1) The biological and behavioral characteristics of the species; (2) the most recent information on distribution and abundance of sea otters within the area of the proposed activity; (3) the potential sources of disturbance during the proposed activity; and (4) the potential response of northern sea otters to disturbance.

The mitigation measures outlined above are intended to minimize the number of sea otters that may be disturbed by the proposed activity. Any impacts to individuals are expected to be limited to Level B harassment of short-term duration. Response of sea otters to disturbance would most likely be common behaviors such as diving and/or swimming away from the source of the disturbance. No take by injury or death is anticipated. We find that the anticipated harassment caused by the proposed activities is not expected to adversely affect the species or stock through effects on annual rate of recruitment or survival.

Our finding of negligible impact applies to incidental take associated with the proposed activity as mitigated through this authorization process. This authorization establishes monitoring and reporting requirements to evaluate the potential impacts of the authorized activities, as well as mitigation measures designed to minimize interactions with, and impacts to, northern sea otters.

Impact on Subsistence

We find that the anticipated harassment caused by the project would not have an unmitigable adverse impact on the availability of northern sea otters for taking for subsistence uses during the period of the activity. In making this finding, we considered the timing and location of the project and subsistence harvest patterns, as reported through the MTRP, in the proposed project area.

Marine Mammal Monitoring

The applicant would be required to conduct marine mammal monitoring during the Airport Construction and Hovercraft Operation, in order to implement the mitigation measures that require real-time monitoring, and to satisfy monitoring required under the MMPA. Project personnel would be required to record information regarding location and behavior of all sea otters observed during operations. When conditions permit, information regarding age (pup, adult) and any tagged animals would also be required to be recorded. The Applicants also propose to form an Akutan marine mammal working group in coordination with the City of Akutan, the Aleutians East Borough, the Service, and NMFS. This working group would consist of representatives from affected native organizations, the City of Akutan, the FAA, and the Services. The working group would provide a forum to discuss hovercraft monitoring results and other issues pertaining to airport operations and northern sea otter conservation.

The working group shall discuss, among other things: (1) Any proposed changes in hovercraft operations to provide both the FAA and the Service with community perspectives on airport operations, (2) monitoring frequency and duration based upon monitoring results and related factors, and (3) completion of peer reviews for reports that evaluate and interpret monitoring data. The Applicants will coordinate the formation of the working group, and will be responsible for organizing meeting agendas, establishing meeting locations, and facilitating community involvement at such meetings. Working group meetings shall commence within 60 days after FAA's approval of airport construction, and shall occur on a quarterly basis for a minimum of 5 years after hovercraft operations commence.

Monitoring and Reporting

The Applicants shall implement the following monitoring and reporting program to increase knowledge regarding the species, and to assess the level of take caused by the proposed action:

a. Vessel-Based (Hovercraft) Monitoring During Initial Trial Operations

All hovercraft activities conducted prior to the construction of the airport and commencement of flight service will be considered “trial operations.” Vessel-based monitoring will be conducted by a qualified Service-approved observer. Vessel-based monitoring is distinguished from other forms of monitoring in that it will be conducted from the hovercraft itself, as opposed to from other platforms (e.g., land, skiff). Methods for observing, estimating distances to northern sea otters and other marine species, and recording data quickly and accurately will be tested prior to hovercraft operations at Akutan. Reticle binoculars (e.g., 7 × 50 Bushnell or equivalent) and laser range finders (Leica LRF 1200 laser range finder or equivalent) are considered standard equipment for observers on board ships with marine mammal observers. Final observation methods will be approved by the Service.

Vessel-based observers will begin monitoring at least 30 minutes prior to the planned start of the hovercraft and during all periods of hovercraft operations to ensure the effectiveness of ramp-up as a mitigation measure. Observers will also monitor the safety areas prior to hovercraft operation. If northern sea otters are observed within the safety areas, hovercraft operations will be altered in accordance with procedures contained in the Route Operational Manual to avoid or minimize noise-related disturbance to animals occurring in the area.

Data for each northern sea otter, other marine mammals, and Steller's eiders observed in the action area during the period of hovercraft operations will be collected and provided to the Service in GIS format for mapping and analysis. Numbers of northern sea otters observed, frequency of observation, sea state, any behavioral changes due to hovercraft operations, and other pertinent variables will be recorded and entered into a custom database using a notebook computer. The accuracy of the data entry will be verified by computerized validity data checks as the data are entered, and by subsequent manual checking of the database. These procedures will allow initial summaries of data to be prepared during and shortly after the field program, and will facilitate transfer of the data to statistical, graphical, or other programs for additional processing and archiving.

Results from the vessel-based observations will provide: (1) A basis for real-time mitigation; (2) information needed to estimate the number of northern sea otters that are determined to have been harassed; (3) data on the occurrence, distribution, and activities of marine mammals in the area where hovercraft operations are conducted; and (4) data on the behavior and movement patterns of northern sea otters seen at times with and without hovercraft activity.

b. Baseline Skiff Surveys

The Applicants will conduct baseline skiff surveys in April of the year that construction begins. These surveys will document pre-activity distribution and abundance of sea otters in the project area prior to the start of construction. A minimum of three skiff-based line transect surveys will be conducted during each survey event. Additionally, a survey event will be conducted each April during the construction phase of the project and the April after construction is completed to document distribution and abundance after each construction year. Surveys will be conducted from a skiff or vessel and will encompass marine waters from a depth of 40 meters to mean high tide.

c. Reporting

Reports on vessel- and land-based activities during construction and vessel-based monitoring will be faxed or e-mailed to the Service on a regular basis. Reports will describe hovercraft operations and construction activities, and northern sea otter monitoring activities during the reporting period. Frequency and specific content of reports will be determined based on consultation with the Service.

Endangered Species Act

The proposed activity will occur within the range of the southwest Alaska DPS of the northern sea otter, which is presently listed as threatened under the ESA, as amended. The FAA and the Service's Anchorage Fish and Wildlife Field Office in Anchorage, Alaska, had consulted under Section 7 of the ESA, and concluded that the proposed activity will not jeopardize the southwest Alaska DPS of the northern sea otter. However, at the time the consultation occurred, critical habitat had not been designated. Therefore, we are reinitiating consultation with the Applicants to take into consideration the rescheduled project dates and potential impacts to critical habitat. We will also reinitiate and complete intra-Service section 7 consultation prior to finalization of the IHA, which will include consideration of the new dates and potential impacts to critical habitat.

National Environmental Policy Act (NEPA)

The applicant provided an FEA on the project. The Service finds that this FEA meets NEPA standards for analyzing the effects of the issuance of this IHA. To obtain a copy of the FEA, contact the individual identified in the ADDRESSES section.

Government-to-Government Relations With Native American Tribal Governments

In accordance with the President's memorandum of April 29, 1994, “Government-to-Government Relations with Native American Tribal Governments” (59 FR 22951), Executive Order 13175, Secretarial Order 3225, and the Department of the Interior's manual at 512 DM 2, we readily acknowledge our responsibility to communicate meaningfully with federally recognized Tribes on a Government-to-Government basis. On July 24, 2008, we contacted the Native Village of Akutan to offer Government-to-Government consultation on this project. The Tribal Administrator declined the offer, stating that their Tribe fully supports the development of an airport on Akun Island.

Proposed Authorization

The Service proposes to issue an IHA for small numbers of northern sea otters harassed incidentally by the Applicants while conducting the Akutan Airport, Alaska, Airport Construction and Hovercraft Operation. The final IHA would specify the starting date and ending date (1 year later) for the authorization. Authorization for incidental take beyond the period specified in the final IHA will require a request for renewal.

The final IHA would also incorporate the mitigation, monitoring, and reporting requirements discussed in this proposal. The Applicants will be responsible for following those requirements. These authorizations do not allow the intentional taking of northern sea otters.

If the level of activity exceeds that described by the Applicants, or the level or nature of take exceeds those projected here, the Service will reevaluate its findings. The Secretary may modify, suspend, or revoke an authorization if the findings are not accurate or the conditions described herein are not being met.

Request for Public Comments

The Service requests interested persons to submit comments and information concerning this proposed IHA. Consistent with section 101(a)(5)(D)(iii) of the MMPA, we are opening the comment period on this proposed authorization for 30 days (see ADDRESSES).

Before including your address, phone number, e-mail address, or other personal identifying information in your comment, you should be aware that your entire comment—including your personal identifying information—may be made publicly available at any time. While you can ask us in your comment to withhold your personal identifying information from public review, we cannot guarantee that we will be able to do so.

Dated: May 25, 2010.
Gary Edwards,
Acting Regional Director, Alaska Region.

[FR Doc. 2010-13649 Filed 6-7-10; 8:45 am]

BILLING CODE 4310-55-P